DEPARTMENT OF ENERGY

Electricity Advisory Board; Notice of Open Meeting

AGENCY: Department of Energy.

SUMMARY: This notice announces an open meeting of the Department of Energy's Electricity Advisory Board. The Federal Advisory Committee Act (Public Law 92-463, 86 Stat. 770), requires that agencies publish these notices in the Federal Register to allow for public participation. The purpose of the meeting is to review and discuss Draft Reports by the Electricity Advisory Board's Subcommittee on Transmission Grid Solutions and the Subcommittee on Electricity Resources Capitalization Concerns. Note: Copies of the two subcommittee's draft reports may be obtained from the following internet address http://www.eab.energy.gov or by contacting the Office of the Secretary of Energy Advisory Board at (202) 586-7092.

Name: Electricity Advisory Board.

Dates and Times: Friday, September 20, 2002, 9 a.m.-4 p.m. Eastern.

ADDRESSES: The second public meeting of the Electricity Advisory Board (EAB) will be held at the Regent Wall Street Hotel, 55 Wall Street, New York, New York 10005. The meeting will be held in the hotel's Mezzanine of the Ballroom from 9 a.m. until 4 p.m.

FOR FURTHER INFORMATION CONTACT: Dr. Craig R. Reed, Executive Director, Secretary of Energy Advisory Board (AB-1), U.S. Department of Energy, 1000 Independence Avenue, SW., Washington, DC 20585, (202) 586-7092 or (202) 586-6279 (fax).

SUPPLEMENTARY INFORMATION: The Electricity Advisory Board was chartered to provide the Secretary of Energy with essential independent advice and recommendations on electricity policy issues of importance to the Department of Energy. The Electricity Advisory Board is to provide timely, balanced, and authoritative advice to the Secretary of Energy on the Department's electricity programs; current and future capacity of the electricity system; issues related to production, reliability and utility restructuring; and coordination between the Department of Energy and state and regional officials and the private sector on matters affecting electricity supply and reliability.

Tentative Agenda

The agenda for the September 20, 2002 meeting has not been finalized. The following is a tentative agenda:

Morning Session

9-9:15 Introduction/Welcome

9:15-10:45 Transmission Grid Solutions Subcommittee Draft Report

*Brief presentation, public comments, and Board discussion

10:45-12 Electric Resources Capitalization Concerns Subcommittee Draft Report

*Brief presentation, public comments, and Board discussion

12-1:15 Luncheon Break

Afternoon Session

1:15-1:30 Formation of Subcommittee on Corporate Governance and Practices

1:30-2:40 Guest Panelists on Corporate Governance and Practices

2:40-3:25 Board Discussion on Corporate Governance and Practices

3:25-4 Member Final Observations and Wrap-Up

Public Participation: During its meeting in New York City, the Electricity Advisory Board welcomes public comment. In keeping with procedures, members of the public may observe the business of the Electricity Advisory Board and submit written comments or comment in person during the scheduled public comment period. Members of the public wishing to comment on the two Draft Reports at the Electricity Advisory Board meeting are required to preregister by submitting a request by e-mail, fax, or mail. Preregistration will help to determine how much time to allot each speaker in light of the time constraints of this meeting of the Electricity Advisory Board. Members of the public will be heard in the order in which they preregister. All requests for public comment preregistration must be received no later than Monday, September 16th at 5 p.m. Eastern Daylight Savings Time and should include (1) the name of the person who will make public comments, (2) his/her association or business, if any; and (3) if possible, a summary of the proposed comments. Please send preregistration requests to one of the following locations:

1. E-Mail to samuel.lahood@hq.doe.gov;

2. Facsimile to (202) 586-6279 as a fax; or

3. Mail to Dr. Craig R. Reed, Executive Director, Secretary of Energy Advisory Board (AB-1), U.S. Department of Energy, 1000 Independence Avenue, SW., Washington, DC 20585. Note: Due to mail delays, persons wishing to pre-register for public comment are encouraged to fax or e-mail their requests.

Persons who fail to preregister for public comments may sign up at the meeting, but such later requests will only be allotted a portion of whatever time remains following the preregistered public comments. The Chairman of the Electricity Advisory Board is empowered to conduct the meeting in a fashion that will, in the Chairman's judgment, facilitate the orderly conduct of business. The Electricity Advisory Board will make every effort to hear the views of all interested parties.

Written comments on either of the Subcommittee's Draft Reports may be submitted to one of the following locations:

4. E-Mail to samuel.lahood@hq.doe.gov;

5. Facsimile to (202) 586-6279; or

6. Mail to Dr. Craig R. Reed, Executive Director, Secretary of Energy Advisory Board (AB-1), U.S. Department of Energy, 1000 Independence Avenue, SW., Washington, DC 20585. Note: Due to mail delays, persons wishing to submit public comment on the draft reports are encouraged to fax or e-mail their comments.

Please advise Lisa Epifani, staff director for the Electricity Advisory Board, at least seven days before the meeting if special assistance is required to make the meeting accessible by persons with vision, hearing, or mobility disabilities. Ms. Epifani may be reached at (202) 586-5450 or (202) 586-6279 (fax). This notice is being published less than 15 days before the date of the meeting due to the late resolution of programmatic issues.

Minutes: A copy of the minutes and a transcript of the meeting will be made available for public review and copying approximately 30 days following the meeting at the Freedom of Information Public Reading Room, 1E-190 Forrestal Building, 1000 Independence Avenue, SW., Washington, DC, between 9 a.m. and 4 p.m., Monday through Friday except Federal holidays.

Issued at Washington, DC, on September 4, 2002.
Rachel M. Samuel,
Deputy Advisory Committee Management Officer.

[FR Doc. 02-22907 Filed 9-9-02; 8:45 am]

BILLING CODE 6450-01-P